DEPARTMENT OF COMMERCE

Bureau of the Census

Census Advisory Committees; Notice of Public Meetings

AGENCY: Bureau of the Census, Department of Commerce.

ACTION: Notice of public meetings.

SUMMARY: The Bureau of the Census (U.S. Census Bureau) is giving notice of a meeting of the Census Advisory Committee of Professional Associations (CACPA). The Committee will address policy, research, and technical issues related to the 2010 Decennial Census Programs, Economic and Demographic program areas, the American Community Survey, and the 2010 Census Integrated Communications Campaign. Last minute changes to the agenda are possible, which could prevent giving advance public notice of schedule adjustments.

The Census Bureau also is giving notice of the following Census Advisory Committee (CAC) meetings: A special Joint Census Advisory Committee meeting of the CACs on Race and Ethnic Populations (REAC) and the 2010 CAC. This special Joint Advisory Committee Meeting will focus on early planning strategies for the Census Bureau's 2010 Census Integrated Communications Campaign. Last minute changes to the schedule are possible, which could prevent advance notification.

DATES: October 18-19, 2007. On October 18, the CACPA meeting will begin at approximately 8:30 a.m. and adjourn at approximately 5:30 p.m. On October 19, the special Joint Advisory Committee Meeting will begin at approximately 8:30 a.m. and end at approximately 5 p.m.

ADDRESSES: The meetings will be held at the U.S. Census Bureau, 4600 Silver Hill Road, Suitland, Maryland 20746.

FOR FURTHER INFORMATION CONTACT: Ms. Jeri Green, Committee Liaison Officer, Department of Commerce, U.S. Census Bureau, Room 8H153, Washington, DC 20233, telephone: (301) 763-2070, TTY (301) 457-2540.

SUPPLEMENTARY INFORMATION: The CACs on the African American Population, American Indian and Alaska Native Populations, the Asian Population, the Native Hawaiian and Other Pacific Islander Populations, and the Hispanic Population are composed of nine members each, appointed by the Secretary of Commerce. The Committees provide an outside-user perspective about how census research, design, and implementation plans for the 2010 re-engineered decennial census, the American Community Survey, and related decennial programs improve census participation, data quality, and accuracy for these population groups. The Committees also advise the Census Bureau on ways census data products can best be disseminated to diverse race and ethnic populations and other users.

The 2010 CAC is composed of a Chair, Vice-Chair, and 20 member organizations—all appointed by the Secretary of Commerce. The Committee considers broader policy and technical goals of the decennial census, including the American Community Survey, from the perspective of outside data users, state, local, and tribal entities, special populations, and other organizations having a substantial interest and expertise in the conduct and outcome of the decennial census.

The CACPA is composed of 36 members appointed by the Presidents of the American Economic Association, the American Statistical Association, the Population Association of America, and the Chairman of the Board of the American Marketing Association. The Committee advises the Director, U.S. Census Bureau, on the full range of Census Bureau programs and activities in relation to each committee's areas of expertise and focus.

All the Committees discussed in this notice have been established in accordance with the Federal Advisory Committee Act (Title 5, United States Code, Appendix 2, section 10(a)(b)).

A brief period will be set aside for public comment. However, individuals with extensive statements for the record must submit them in writing to Ms. Jeri Green, Committee Liaison Officer, 4600 Silver Hill Road, Room 8H153, Washington, DC 20233, or e-mail to jeri.green@census.gov at least three working days prior to the meetings. Seating is available to the public on a first-come, first-served basis.

The meeting is physically accessible to people with disabilities. Requests for sign language interpretation or other auxiliary aids should be directed to the Census Bureau Committee Liaison Officer as soon as known, preferably two weeks prior to the meeting.

Dated: September 21, 2007.
Charles Louis Kincannon,
Director, Bureau of the Census.

[FR Doc. E7-19082 Filed 9-26-07; 8:45 am]

BILLING CODE 3510-07-P